FEDERAL COMMUNICATIONS COMMISSION

47 CFR Part 101

[WT Docket No. 00-19; RM-9418; FCC 02-218]

Streamline Processing of Microwave Applications in the Wireless Telecommunications Services

AGENCY: Federal Communications Commission.

ACTION: Correcting amendment.

SUMMARY: In this document, the Federal Communications Commission corrects an inadvertent error that occurred when the Commission adopted final rules pertaining to Streamline Processing of Microwave Applications in the Wireless Telecommunications Services and Telecommunications Industry Association Petition for Rulemaking. These rules were published in the Federal Register on Friday, January 31, 2003 (68 FR 4953). Specifically, the error occurred in a table to the rules concerning directional antennas and compliance with antenna standards. As a result of this correction, the table will be amended as intended by the Commission.

DATES: Effective September 26, 2008.

FOR FURTHER INFORMATION CONTACT: John Schauble at 202-418-0797.

SUPPLEMENTARY INFORMATION: This is a correction to a summary of the Commission's Report and Order in WT Docket No. 00-19, FCC 02-218, adopted on July 18, 2002 and released on July 31, 2002. The Report and Order streamlined, clarified and updated part 101 rules. These actions were to provide increased flexibility to licensees, ensure greater and more efficient use of spectrum bands regulated under part 101, and ensure that our Rules are consistent with international agreements.

Need for Correction

As published, the final rules contain an error in § 101.115 Directional Antennas, Antenna Standards Table. The Commission did not request that the listed entry to the Antenna Standards Table for the frequency of 10,550 to 10,680 ⁵,⁷ MHz be omitted. This correction removes the listing that should have been omitted. The entry for 10,550 to 10,680⁷, which was adopted in that proceeding, will remain.

List of Subjects in 47 CFR Part 101

Communications equipment, Marine safety, Radio, Reporting and recordkeeping requirements.

Accordingly, 47 CFR part 101 is amended by making the following correcting amendments:

PART 101—FIXED MICROWAVE SERVICES

1. The authority citation for part 101 continues to read as follows:

Authority: 47 U.S.C. 154, 303 unless otherwise noted.

§ 101.115 [Amended]

2. Section 101.115 is amended by removing the entry “10,550 to 10,680 ⁵,⁷” for both Category A and B in the table following paragraph (b)(2).

Federal Communications Commission.
Marlene H. Dortch,
Secretary.

[FR Doc. E8-22721 Filed 9-25-08; 8:45 am]

BILLING CODE 6712-01-P